DEPARTMENT OF TRANSPORTATION

National Highway Traffic Safety Administration

Petition for Exemption From the Federal Motor Vehicle Theft Prevention Standard; Toyota

AGENCY: National Highway Traffic Safety Administration, Department of Transportation (DOT).

ACTION: Grant of petition for exemption.

SUMMARY: This document grants in full Toyota Motor North America, Inc.'s, (Toyota) petition for an exemption of the Sienna vehicle line in accordance with 49 CFR part 543, Exemption from Vehicle Theft Prevention Standard. This petition is granted because the agency has determined that the antitheft device to be placed on the line as standard equipment is likely to be as effective in reducing and deterring motor vehicle theft as compliance with the parts-marking requirements of the 49 CFR part 541, Federal Motor Vehicle Theft Prevention Standard (Theft Prevention Standard).

DATES: The exemption granted by this notice is effective beginning with the 2016 model year (MY).

FOR FURTHER INFORMATION CONTACT: Ms. Carlita Ballard, Office of International Policy, Fuel Economy and Consumer Programs, NHTSA, W43-439, 1200 New Jersey Avenue SE., Washington, DC 20590. Ms. Ballard's phone number is (202) 366-5222. Her fax number is (202) 493-2990.

SUPPLEMENTARY INFORMATION: In a petition dated July 1, 2014, Toyota requested an exemption from the parts-marking requirements of the Theft Prevention Standard for the Sienna vehicle line beginning with MY 2016. The petition requested an exemption from parts-marking pursuant to 49 CFR part 543, Exemption from Vehicle Theft Prevention Standard, based on the installation of an antitheft device as standard equipment for the entire vehicle line.

Under 49 CFR part 543.5(a), a manufacturer may petition NHTSA to grant an exemption for one vehicle line per model year. In its petition, Toyota provided a detailed description and diagram of the identity, design, and location of the components of the antitheft device for the Sienna vehicle line. Toyota stated that the MY 2016 Sienna vehicle line will be installed with an engine immobilizer device as standard equipment. Toyota also stated that it will offer two entry/start systems on its Sienna vehicle line. Specifically, Toyota stated that the Sienna vehicle line will be offered with a “smart entry and start system” or a “remote keyless entry (RKE) and start system”. Key components of the “smart entry and start system” are an engine immobilizer device, a certification electronic control unit (ECU), engine switch, steering lock ECU, security indicator, door control receiver, electrical key and an electronic control module (ECM). The “RKE and start system” components are an engine immobilizer device, transponder key ECU assembly, transponder key coil, security indicator, ignition key and an ECM. Toyota further stated that it will offer an audible and visual alarm as standard equipment on its XLE and Limited trim level models and as optional equipment on its L, LE, and SE trim level models.

Toyota stated that its “smart entry and start system” will allow the driver to start the engine by pressing the engine switch button located on the instrument panel. Once the driver pushes the engine switch button, the certification ECU verifies the electrical key. When the key is verified, the certification ECU and steering lock ECU receive confirmation of the valid key, and the certification ECU allows the ECM to start the engine. Toyota stated that its “smart entry and start system” immobilizer device is activated when the engine switch is pushed from the “ON” status to any other ignition status. The certification ECU performs a calculation for the immobilizer device then the certification ECU performs the calculation activating the immobilizer device and signaling the ECM. The device is deactivated when the doors are unlocked and the device recognizes the key code.

Toyota stated that once the key is inserted into the key cylinder for the “RKE and start system”, the transponder chip in the key sends the key ID codes to the transponder key ECU assembly to verify the code. Once the code has been verified, the immobilizer device will allow the ECM to start the engine. Activation of the immobilizer device in the “RKE and start system” occurs when the ignition key is turned from the “ON” status or any other position and/or the key is removed. Deactivation of the immobilizer device in the “RKE and start system” occurs when the door is unlocked and the key is turned to the “ON” position.

Toyota stated that the device will be installed with a security indicator feature which will provide the status of the immobilizer device for its Sienna vehicle line. When the immobilizer device is activated, the security indicator flashes continuously. When the immobilizer device is not activated, the security indicator is off. Additionally, Toyota stated that there will be position switches installed on the vehicle to protect its hood and doors. The position switch for the hood will sense the lock releasing when the hood is opened inappropriately from outside of the vehicle. The door position switches will sense the vehicle's key cylinder rotation and the door's locked/unlocked status. Toyota stated that attempting to open the doors without using the proper key will trigger activation of the antitheft device. Toyota further stated that all the doors of its Sienna vehicle line can be locked by using either a key, a wireless switch or a smart entry system.

Toyota's submission is considered a complete petition as required by 49 CFR 543.7 in that it meets the general requirements contained in § 543.5 and the specific content requirements of § 543.6.

In addressing the specific content requirements of § 543.6, Toyota provided information on the reliability and durability of its proposed device. To ensure reliability and durability of the device, Toyota conducted tests based on its own specified standards. Toyota provided a detailed list of the tests conducted (i.e., high and low temperature, strength, impact, vibration, electro-magnetic interference, etc.). Toyota stated that it believes that its device is reliable and durable because it complied with its own specific design standards and the antitheft device is installed on other vehicle lines for which the agency has granted a parts-marking exemption. Toyota stated that the antitheft device is already installed as standard equipment on its MY 2015 Sienna and plans to continue installation of the device on its MY 2016 and later vehicles. The theft rate for the Toyota Sienna vehicle line using an average of three model years' data (MYs 2009-2011) is 0.7345, well below the 3.5826 median theft rate. As an additional measure of reliability and durability, Toyota stated that its vehicle key cylinders are covered with casting cases to prevent the key cylinder from easily being broken. Toyota further stated that there are also so many key cylinder combinations and key plates for its gutter keys, making it very difficult to unlock the doors without using a valid key.

Toyota also compared its proposed device to other devices NHTSA has determined to be as effective in reducing and deterring motor vehicle theft as would compliance with the parts-marking requirements (i.e., Toyota Camry, Corolla, Lexus LS, Lexus ES, RAV4, Highlander, Prius and the Lexus GS vehicle lines). These lines have all been granted parts-marking exemptions by the agency. The theft rates for these lines using an average of three model years' data (2009-2011) are 1.2602, 1.3295, 0.7258, 0.3175, 0.5682, 0.5669, 0.2675 and 0.6315 respectively. Therefore, Toyota has concluded that the antitheft device proposed for its Sienna vehicle line is no less effective than those devices in the lines for which NHTSA has already granted full exemption from the parts-marking requirements. Toyota believes that installing the immobilizer device as standard equipment reduces the theft rate and expects the Sienna to experience comparable effectiveness ultimately being more effective than parts-marking labels.

Based on the evidence submitted by Toyota, the agency believes that the antitheft device for the Sienna vehicle line is likely to be as effective in reducing and deterring motor vehicle theft as compliance with the parts-marking requirements of the Theft Prevention Standard (49 CFR 541).

Pursuant to 49 U.S.C. 33106 and 49 CFR 543.7 (b), the agency grants a petition for exemption from the parts-marking requirements of Part 541, either in whole or in part, if it determines that, based upon substantial evidence, the standard equipment antitheft device is likely to be as effective in reducing and deterring motor vehicle theft as compliance with the parts-marking requirements of Part 541. The agency finds that Toyota has provided adequate reasons for its belief that the antitheft device for the Toyota Sienna vehicle line is likely to be as effective in reducing and deterring motor vehicle theft as compliance with the parts-marking requirements of the Theft Prevention Standard (49 CFR part 541). This conclusion is based on the information Toyota provided about its device.

The agency concludes that the device will provide four of the five types of performance listed in § 543.6(a)(3): Promoting activation; preventing defeat or circumvention of the device by unauthorized persons; preventing operation of the vehicle by unauthorized entrants; and ensuring the reliability and durability of the device.

For the foregoing reasons, the agency hereby grants in full Toyota's petition for exemption for the Toyota Sienna vehicle line from the parts-marking requirements of 49 CFR part 541. The agency notes that 49 CFR part 541, Appendix A-1, identifies those lines that are exempted from the Theft Prevention Standard for a given model year. 49 CFR part 543.7(f) contains publication requirements incident to the disposition of all Part 543 petitions. Advanced listing, including the release of future product nameplates, the beginning model year for which the petition is granted and a general description of the antitheft device is necessary in order to notify law enforcement agencies of new vehicle lines exempted from the parts marking requirements of the Theft Prevention Standard.

If Toyota decides not to use the exemption for this line, it should formally notify the agency. If such a decision is made, the line must be fully marked according to the requirements under 49 CFR parts 541.5 and 541.6 (marking of major component parts and replacement parts).

NHTSA notes that if Toyota wishes in the future to modify the device on which this exemption is based, the company may have to submit a petition to modify the exemption. Part 543.7(d) states that a Part 543 exemption applies only to vehicles that belong to a line exempted under this part and equipped with the antitheft device on which the line's exemption is based. Further, Part 543.9(c)(2) provides for the submission of petitions “to modify an exemption to permit the use of an antitheft device similar to but differing from the one specified in that exemption.”

The agency wishes to minimize the administrative burden that Part 543.9(c)(2) could place on exempted vehicle manufacturers and itself. The agency did not intend in drafting Part 543 to require the submission of a modification petition for every change to the components or design of an antitheft device. The significance of many such changes could be de minimis. Therefore, NHTSA suggests that if the manufacturer contemplates making any changes, the effects of which might be characterized as de minimis, it should consult the agency before preparing and submitting a petition to modify.

Under authority delegated in 49 CFR part 1.95.

R. Ryan Posten,
Associate Administrator for Rulemaking.

[FR Doc. 2014-27888 Filed 11-24-14; 8:45 am]

BILLING CODE 4910-59-P